DEPARTMENT OF ENERGY

Federal Energy Regulatory Commission

Combined Notice of Filings

Take notice that the Commission has received the following Natural Gas Pipeline Rate and Refund Report filings:

Docket Number: PR20-2-002.

Applicants: Valley Crossing Pipeline, LLC.

Description: Tariff filing per 284.123(b),(e)+(g): Amended Petition for Rate Approval and Statement of Operating Conditions 1-24-20 to be effective 1/24/2020.

Filed Date: 1/24/2020.

Accession Number: 202001245117.

Comments Due: 5 p.m. ET 2/14/2020.

284.123(g) Protests Due: 5 p.m. ET 2/14/2020.

Docket Numbers: RP20-449-000.

Applicants: Equitrans, L.P.

Description: § 4(d) Rate Filing: Negotiated Retainage Updates Effective 2-1-2020 to be effective 2/1/2020.

Filed Date: 1/24/20.

Accession Number: 20200124-5001.

Comments Due: 5 p.m. ET 2/5/20.

Docket Numbers: RP20-450-000.

Applicants: Great Lakes Gas Transmission Limited Partnership.

Description: Compliance filing Semi-Annual Transporter's Use Report January 2020.

Filed Date: 1/24/20.

Accession Number: 20200124-5005.

Comments Due: 5 p.m. ET 2/5/20.

Docket Numbers: RP20-451-000.

Applicants: Golden Triangle Storage, Inc.

Description: § 4(d) Rate Filing: Revisions to GT&C Section 17—Force Majeure, Reservation Charge Credits to be effective 3/1/2020.

Filed Date: 1/24/20.

Accession Number: 20200124-5046.

Comments Due: 5 p.m. ET 2/5/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2020.
Kimberly D. Bose,
Secretary.

[FR Doc. 2020-01948 Filed 1-31-20; 8:45 am]

BILLING CODE 6717-01-P